DEPARTMENT OF AGRICULTURE

Forest Service

Olympic Provincial Advisory Committee

AGENCY: Forest Service, USDA.

ACTION: Notice of meeting.

SUMMARY: The Olympic Province Advisory Committee (OPAC) will meet on Friday, May 23, 2002. The meeting will be held at the Forest Service/DNR Conference Room at 437 Tillicum Lane in Forks, Washington. The meeting will begin at 9:30 a.m. and end at approximately 3:30 p.m. Agenda topics are: Current status of key Forest issues; Status update on Resource Advisory Committees for Rural Schools and Community Self-Determination Act of 2000 Title II Projects; NW Forest Plan Implementation Monitoring; Access & Travel Management Plan update; Timber Management Activities; Open forum; Public comments; and field trip to review two recently completed timber sales with objectives to create favorable conditions for wildlife.

All Olympic Province Advisory Committee Meetings are open to the public. Interested citizens are encouraged to attend.

FOR FURTHER INFORMATION CONTACT: Direct questions regarding this meeting to Ken Eldredge, Province Liaison, USDA, Olympic National Forest Headquarters, 1835 Black Lake Blvd. Olympia, WA 98512-5623, (360) 956-2323 or Dale Hom, Forest Supervisor, at (360) 956-2301.

Dated: April 21, 2003
Dale Hom,
Forest Supervisor, Olympic National Forest.

[FR Doc. 03-10229 Filed 4-24-03; 8:45 am]

BILLING CODE 3410-11-M